DEPARTMENT OF HOMELAND SECURITY

Coast Guard

46 CFR Part 7

[Docket No. USCG-2011-0925]

Special Load Line Exemption for the Gulf of Mexico: Petition for Rulemaking

AGENCY: Coast Guard, DHS.

ACTION: Notice of availability and request for comments.

SUMMARY: The Coast Guard announces the availability of a petition for rulemaking, and requests public comment accordingly. The petition was submitted by a river barge operator, who requests that the Coast Guard establish a special load line exemption on the Gulf of Mexico. The requested exemption would allow non-load line river barges to transit along the west coast of Florida, en route to/from Tampa Bay.

DATES: Comments and related material must either be submitted to our online docket via http://www.regulations.gov on or before December 31, 2012, or reach the Docket Management Facility by that date.

ADDRESSES: You may submit comments identified by docket number USCG-2011-0925 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, contact Mr. Thomas Jordan, Naval Architecture Division (CG-ENG-2), U.S. Coast Guard Headquarters, at telephone 202-372-1370, or by email at thomas.d.jordan@uscg.mil. If you have questions on viewing or submitting material to the docket, call Renee V. Wright, Program Manager, Docket Operations, telephone 202-366-9826.

SUPPLEMENTARY INFORMATION:

Public Participation and Request for Comments

We encourage you to submit comments and related material on the rulemaking petition for a special load line exemption on the Gulf of Mexico. All comments received will be posted, without change, to http://www.regulations.gov and will include any personal information you have provided.

Submitting Comments

If you submit a comment, please include the docket number for this notice (USCG-2011-0925) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov enter “USCG-2011-0925” in the “Search” box and click “Search”, then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the Rulemaking Petition and Comments

To view the petition and comments that have been submitted to the docket, go to http://www.regulations.gov, enter “USCG-2011-0925” in the “Search” box and click “Search.” Click the “Open Docket Folder” in the “Actions” column. If you do not have access to the internet, you may view the docket in person by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The rulemaking petition requests that the Coast Guard establish a special load line-exempted route along the west coast of Florida, which would allow non-load line river barges to transit to/from Tampa Bay. The action requested by the petition pertains to current load line regulations, the extent of the Boundary Line in the Gulf of Mexico, and the use of non-load line river barges on a coastwise route. These are discussed further below.

Load line assignment. Most commercial vessels that are 79 feet in length or longer, and that proceed on domestic or international voyages outside the U.S. Boundary Line, must be assigned a load line. The purpose of load line assignment is to ensure the overall seaworthiness of the vessel. This is accomplished through the application of several design and construction requirements, such as: Robust hull construction that can withstand severe sea conditions; protection of critical openings (such as hatchways, doors, ventilators, etc.) with weathertight or watertight closures; ensuring that the vessel has adequate stability and strength for all operating conditions; and limiting the loaded draft (by use of load line marks) to ensure that the vessel is not overloaded and has reserve buoyancy.

Furthermore, the vessel must be surveyed annually (by a surveyor from the load line assigning authority) to verify that all of these features are maintained in operable condition, and that no damage or modification has been done to the vessel that compromises its seaworthiness. The benefit in meeting these requirements is that the vessel is considered safe and seaworthy enough for offshore voyages, even under severe weather conditions. This gives the operator maximum flexibility in the commercial employment of the vessel. There are costs associated with load line assignment, however: Higher construction cost for the vessel, and the cost of the annual surveys.

Because river barges are not exposed to any sea conditions, they are not typically constructed to meet the load line standards for coastwise or offshore service. Although this makes them less expensive to build and operate, they do not qualify for load line assignment and therefore are not normally permitted to operate outside the Boundary Line.

(More information on load lines and the Boundary Line can be found on the Coast Guard's load line Web site at: http://www.uscg.mil/hq/cg5/cg5212/loadlines.asp)

Boundary Line in the Gulf of Mexico. Most commercial vessels become subject to load line requirements when they cross outside the U.S. Boundary Line (which is delineated in 46 CFR Part 7). In the Gulf of Mexico between the Marquesas Keys, FL, and the mouth of the Rio Grande River, TX, the Boundary Line is located 12 nautical miles offshore. This effectively creates a nearshore marine corridor where non-load line vessels, including river barges, may proceed between ports along the Gulf coast. The premise behind this is that weather conditions in the Gulf are generally benign enough, and places of refuge are close enough at hand, that non-load line vessels can safely operate along the coast, and readily evade bad weather if necessary.

However, there is a stretch of shallow water—as denoted by the 12-foot water depth contour—extending ten to twelve miles offshore along the western coast of Florida between Crystal River and Tarpon Springs. These water depths are relatively shallow for commercial shipping, and severely constrict the non-load line corridor. To stay within sufficient depth of water along this shallow stretch, a vessel may need to transit outside the Boundary Line, thereby necessitating a load line assignment.

Petition for a special load line exemption. In order to extend the existing non-load line nearshore corridor all the way to Tampa Bay, Parker Towing Company, Inc. (Parker Towing), has submitted to the Coast Guard a rulemaking petition to create a load line-exempted route outside the Boundary Line along the western coast of Florida. The Parker Towing petition can be viewed in the docket, but to summarize: The proposed exempted route extends for approximately 32 nautical miles, between Crystal River and Tarpon Springs, FL. At its furthest point, the exempted route would be three nautical miles outside the 12-mile Boundary Line. In addition to the route, the petition also proposes to limit the exemption to unmanned barges, carrying non-hazardous and non-liquid cargoes, under restricted weather conditions. The benefit of the exemption is that it would allow non-hazardous cargoes to be loaded onto ordinary, non-load line river barges at upriver terminals in Alabama, Louisiana, Mississippi, and Texas, for direct delivery to Tampa Bay, FL terminals.

The petition also discusses the “M-10 Marine Highway Corridor.” This pertains to a transportation study by the U.S. Department of Transportation Maritime Administration (MarAd) of coastal shipping routes that could be utilized to alleviate trucking congestion on overland highways (in this case, the I-10 interstate corridor through the Gulf coast states). More information on America's Marine Highway Program is posted on the MarAd AMH Web site at: http://www.marad.dot.gov/ships_shipping_landing_page/mhi_home/mhi_home.htm.

Other Similar Load Line Exemption Regimes

Although river barges are not normally permitted to operate outside the U.S. Boundary Line, there are a few limited routes where they are permitted to operate under restricted conditions. The exemption proposed in the Parker Towing petition is similar to a load line exemption regime established for river barges operating on Lake Michigan (per 46 CFR 45.171, et seq., a copy of which is included in the docket).

Request for Comments

In deciding whether or not to move forward with the requested rulemaking, the Coast Guard must consider several issues: the safety of the operation, protection of the marine environment, resource demands on the Coast Guard (particularly compliance verification and enforcement), and the potential economic costs and benefits.

Public comments on these issues, as well as other points that are pertinent to this petition, are encouraged. Upon review, the Coast Guard will decide whether or not to proceed with a rulemaking to establish the proposed exempted route.

This notice is issued under authority of 5 U.S.C. 552(a) and 46 U.S.C. 5108.

Dated: September 10, 2012.
J.G. Lantz,
Director of Commercial Regulations and Standards.

[FR Doc. 2012-23883 Filed 9-28-12; 8:45 am]

BILLING CODE 9110-04-P